DEPARTMENT OF COMMERCE

National Oceanic and Atmospheric Administration

RIN 0648-XG603

Meeting of the Columbia Basin Partnership Task Force of the Marine Fisheries Advisory Committee

AGENCY: National Marine Fisheries Service (NMFS), National Oceanic and Atmospheric Administration (NOAA), Commerce.

ACTION: Notice of open public meeting.

SUMMARY: This notice sets forth the proposed schedule and agenda of two forthcoming meetings of the Marine Fisheries Advisory Committee's (MAFAC's) Columbia Basin Partnership Task Force (CBP Task Force). The CBP Task Force will discuss the issues outlined in the SUPPLEMENTARY INFORMATION below.

DATES: The meetings are scheduled for November 15, 2018, 1-4 p.m. and November 16, 2018, 10-12 p.m., Pacific Time.

ADDRESSES: The public meeting will be conducted by telephone conference call.

FOR FURTHER INFORMATION CONTACT: Katherine Cheney; NFMS West Coast Region; 503-231-6730; email: Katherine.Cheney@noaa.gov.

SUPPLEMENTARY INFORMATION: Notice is hereby given of a meeting of MAFAC's CBP Task Force. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee-. The CBP Task Force reports to MAFAC and is being convened to develop recommendations for long-term goals to meet Columbia Basin salmon recovery, conservation needs, and harvest opportunities, in the context of habitat capacity and other factors that affect salmon mortality. More information is available at the CBP Task Force web page: http://www.westcoast.fisheries.noaa.gov/columbia_river/index.html.

Matters To Be Considered

The Committee is convening to discuss updates to the shared provisional salmon and steelhead quantitative goals, the draft recommendations report, and planning for the next phase of work for the CBP Task Force.

Time and Date

The meeting is scheduled for November 15, 2018, 1-4 p.m. and November 16, 2018, 10 a.m.-12 p.m., Pacific Time by conference call and webinar. Access information for the public will be posted at http://www.westcoast.fisheries.noaa.gov/columbia_river/index.html by November 9, 2018.

Special Accommodations

These meetings are physically accessible to people with disabilities. Requests for auxiliary aids should be directed to Katherine Cheney, 503-231-6730 by November 8, 2018.

Dated: October 31, 2018.
Jennifer L. Lukens,
Federal Program Officer, Marine Fisheries Advisory Committee, National Marine Fisheries Service.

[FR Doc. 2018-24237 Filed 11-5-18; 8:45 am]

BILLING CODE 3510-22-P